DEPARTMENT OF AGRICULTURE

Forest Service

National Advisory Committee for Implementation of the National Forest System Land Management Planning Rule

AGENCY: Forest Service, USDA.

ACTION: Notice of meeting.

SUMMARY: The National Advisory Committee for Implementation of the National Forest System Land Management Planning Rule will meet in Washington, DC. The committee operates in compliance with the Federal Advisory Committee Act. The purpose of the committee is to provide advice and recommendations on the implementation of the National Forest System Land Management Rule. The meeting is open to the public. The purpose of the meeting is to perform administrative tasks such as ethics training, Federal Advisory Committee Act training, and establishing committee operating procedures. Another objective of the meeting is to define areas where the committee can provide the most valuable input and recommendations for implementation of the new planning rule.

DATES: The meeting will be held on September 11-13, 2012, from 9:00 a.m. to 5:00 p.m., Eastern Standard Time.

ADDRESSES: The meeting will be held at the Courtyard Washington located at 1325 2nd Street NE., Washington, DC.

Written comments may be submitted as described under Supplementary Information. All comments, including names and addresses when provided, are placed in the record and are available for public inspection and copying. The public may inspect comments received at 201 14th Street SW., Washington, DC, 3rd Floor Central. Please call ahead to 202-205-0895 to facilitate entry into the building to view comments.

FOR FURTHER INFORMATION CONTACT: Jennifer Helwig, Ecosystem Management Coordination, 202-205-0892, jahelwig@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: (1) Determine the scope and initial tasks of the committee, (2) ethics training, and (3) administrative tasks. Further information, including the meeting agenda, will be posted on the Planning Rule Advisory Committee Web site at http://www.fs.usda.gov/main/planningrule/committee.

Anyone who would like to bring related matters to the attention of the committee may file written statements with the committee staff before the meeting. Written comments must be sent to USDA Forest Service, Ecosystem Management Coordination, 201 14th Street SW., Mail Stop 1104, Washington, DC 20250-1104. Comments may also be sent via email to Jennifer Helwig at jahelwig@fs.fed.us, or via facsimile to 202-205-1012. A summary of the meeting will be posted at http://www.fs.usda.gov/main/planningrule/committee within 21 days of the meeting. Anyone who would like to bring related matters to the attention of the committee may file written statements with the committee staff before the meeting.

Meeting Accommodations: If you require sign language interpreting, assistive listening devices or other reasonable accommodation, please request this in advance of the meeting by contacting the person listed in the section titled FOR FURTHER INFORMATION CONTACT. All reasonable accommodation requests are managed on a case-by-case basis.

Dated: August 15, 2012.
James W. Peña,
Associate Deputy Chief, National Forest System.

[FR Doc. 2012-20701 Filed 8-22-12; 8:45 am]

BILLING CODE 3410-11-P